DEPARTMENT OF TRANSPORTATION

Federal Aviation Administration

14 CFR Part 39

[Docket No. FAA-2025-0473; Project Identifier AD-2024-00281-T; Amendment 39-23167; AD 2025-20-14]

RIN 2120-AA64

Airworthiness Directives; The Boeing Company Airplanes

AGENCY: Federal Aviation Administration (FAA), DOT.

ACTION: Final rule.

SUMMARY: The FAA is superseding Airworthiness Directive (AD) 2018-26-03, which applied to all The Boeing Company Model 757-200 series airplanes. AD 2018-26-03 required, for the Captain's and First Officer's seats, repetitive horizontal actuator identifications, repetitive checks of the horizontal movement system (HMS), a detailed inspection of the HMS, as applicable, and applicable on-condition actions. AD 2018-26-03 also required a general visual inspection to determine the seat part numbers of the Captain's and First Officer's seats, a cable adjustment check on seats with certain seat part numbers, and applicable on-condition actions. This AD was prompted by reports of uncommanded movement of the Captain's and First Officer's seats. This AD retains the requirements of AD 2018-26-03 and adds an inspection for previously omitted part numbers. The FAA is issuing this AD to address the unsafe condition on these products.

DATES: This AD is effective January 2, 2026.

The Director of the Federal Register approved the incorporation by reference of certain publications listed in this AD as of January 2, 2026.

The Director of the Federal Register approved the incorporation by reference of a certain other publication listed in this AD as of January 31, 2019 (83 FR 66612, December 27, 2018).

ADDRESSES:

AD Docket: You may examine the AD docket at regulations.gov under Docket No. FAA-2025-0473; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0473.

FOR FURTHER INFORMATION CONTACT: Julie Linn, Aviation Safety Engineer, FAA, 2200 South 216th St., Des Moines, WA 98198; phone: 206-231-3584; email: Julie.Linn@faa.gov.

SUPPLEMENTARY INFORMATION:

Background

The FAA issued a notice of proposed rulemaking (NPRM) to amend 14 CFR part 39 to supersede AD 2018-26-03, Amendment 39-19533 (83 FR 66612, December 27, 2018) (AD 2018-26-03). AD 2018-26-03 applied to all The Boeing Company Model 757-200 series airplanes. The NPRM was published in the Federal Register on March 31, 2025 (90 FR 14213). The NPRM was prompted by reports of uncommanded movement of the Captain's and First Officer's seats and the determination that additional seats are affected by the unsafe condition. In the NPRM, the FAA proposed to continue to require the actions in AD 2018-26-03 and add an inspection for previously omitted part numbers. The FAA is issuing this AD to address uncommanded movement of the Captain's and First Officer's seat, which could lead to reduced controllability of the airplane.

Discussion of Final Airworthiness Directive

Comments

The FAA received comments from the Air Line Pilots Association, International and ProTech Aero Services Limited who supported the NPRM without change.

The FAA also received comments from Boeing, Delta Air Lines (Delta), and an anonymous commenter. The following presents those comments and the FAA's response.

Request To Clarify Seat Applicability for Acceptable Conditions for Compliance

Delta requested the FAA revise paragraph (m) of the proposed AD to clarify that it applies to an Ipeco Captain's or First Officer's seat currently installed on an airplane. Delta stated that paragraph (m) of the proposed AD could be interpreted as applying to all seats currently installed on an airplane, or seats that were previously modified as required by AD 2018-26-03.

The FAA agrees with the commenter's rationale and has revised paragraph (m) of this AD to specify the paragraph applies to seats installed on an airplane.

Request To Revise the Acceptable Conditions for Compliance

Boeing requested the FAA revise paragraph (m) of this AD to state that, if airplane records show an Ipeco Captain's or First Officer's seat meets either one of two conditions for Boeing Special Attention Service Bulletin 757-25-0308 in table 1 to paragraph (m) of the proposed AD, then the actions in paragraphs (g) and (h), as applicable, of the proposed AD are not required for that seat; and if the records show that a seat meets either one of two conditions for Boeing Special Attention Service Bulletin 757-25-0309 in table 1 to paragraph (m) of the proposed AD, then the actions in paragraphs (j) and (k), as applicable, of the proposed AD are not required for that seat. Boeing stated this change would clarify that accomplishment of either Boeing Special Attention Service Bulletin 757-25-0308 or 757-25-0309 alone does not alleviate both adverse conditions of the seats, and that actions in both service bulletins are necessary. Boeing also stated that one row for Boeing Special Attention Service Bulletin 757-25-0308 must be completed for the HMS issue to satisfy the requirements of paragraphs (g) and (j) of the proposed AD, and one row must be completed for Boeing Special Attention Service Bulletin 757-25-0309 to satisfy the requirements of paragraphs (h) and (k) of the proposed AD.

The FAA agrees with the intent of the commenter's request and has revised paragraph (m) of this AD to match the language the FAA adopted in other ADs that address the same unsafe condition on other Boeing airplane models. Paragraph (m) of this AD states, in part, if airplane records show a seat installed on an airplane meets the conditions in any of the three rows for Boeing Special Attention Service Bulletin 757-25-0308 in table 1 to paragraph (m) of this AD, then the actions in paragraphs (g) and (j), as applicable, of this AD are not required for that seat; and if the airplane records show a seat installed on an airplane meets the conditions in any of the three rows for Boeing Special Attention Service Bulletin 757-25-0309 in table 1 to paragraph (m) of this AD, then the actions specified in paragraphs (j) and (k), as applicable, of this AD are not required for that seat.

Request To Correct Service Bulletin Reference

Boeing and Delta requested that the FAA correct three references to service bulletin number “777-25-0309” in table 1 to paragraph (m) of the proposed AD. The commenters stated the correct reference is Boeing Special Attention Service Bulletin 757-25-0309.

The FAA agrees and has revised table 1 to paragraph (m) of this AD accordingly.

Request To Add Service Information as Acceptable Conditions for Compliance

Delta requested that the FAA add Ipeco Service Bulletin 258-25-16, Issue 4, dated September 11, 2017; and Issue 5, dated April 29, 2020, to table 1 to paragraph (m) of the proposed AD. Delta stated that these service bulletins embody the HMS inspection and overhaul of the Captain's and First Officer's seats. Delta noted that, under the proposed table, compliance is acceptable (i.e., the actions specified in paragraphs (g), (h), (j), and (k) of the proposed AD are not required) if actions are done in accordance with Boeing Special Attention Service Bulletin 757-25-0308, Revision 1, dated June 7, 2018, and additional actions are done in accordance with Ipeco Service Bulletin 258-25-15, Issue 4, dated February 16, 2018; Issue 5, dated April 29, 2020; or Issue 6, dated November 1, 2021, for Ipeco part number (P/N) 3A258-0007-01-1 or 3A258-0008-01-1 with horizontal actuator Artus P/N AD8650503 at “Amendment C” or later. Delta also noted that Revision 1 of Boeing Special Attention Service Bulletin 757-25-0308, and Revision 2, dated June 12, 2023, allow accomplishment of Issue 4 of Ipeco Service Bulletin 258-25-16 for Ipeco P/N 3A258-0007-01-1 or 3A258-0008-01-1. Delta stated that accomplishing Issue 4, 5, or 6 of Ipeco Service Bulletin 258-25-15 triggers repetitive inspections of the seats but accomplishing Issue 4 or 5 of Ipeco Service Bulletin 258-25-16 terminates those repetitive inspections.

The FAA agrees with the commenter's request for the reasons provided above. Accordingly, the FAA has included the additional service information in table 1 to paragraph (m) of this AD.

Request To Emphasize Whistleblower Protections

An anonymous commenter stated the proposed AD should explicitly remind operators of the strong whistleblower protections with anti-retaliatory safeguards for mechanics, flightcrews, and inspectors who report recurring or unresolved seat movement issues.

The FAA acknowledges the commenter's concern. The Wendell H. Ford Aviation Investment and Reform Act for the 21st Century (49 U.S.C. 42121) prohibits discrimination against employees of the U.S. air carrier industry and U.S. manufacturers who report information related to air carrier safety. Employees of U.S. air carriers and U.S. aircraft/component manufacturers, their contractors, and their sub-contractors are covered under the AIR-21 Whistleblower Protection Program. More information about this program is available at https://www.faa.gov/about/initiatives/whistleblower. Other individuals may a file a complaint or safety report using the FAA Hotline. More information about this program is available at https://www.faa.gov/about/office_org/headquarters_offices/aae/programs_services/faa_hotlines. No change to the AD is necessary in this regard.

Request To Consider Impacts on Small Businesses and Communities

An anonymous commenter requested that the FAA analyze whether additional costs or delays from the proposed AD would disproportionately affect small operators, regional airlines, or routes serving low-income or rural communities. The commenter stated that technical support or grants may be needed to avoid reducing affordable and equitable access to air service.

The FAA acknowledges the commenter's concern. The FAA recognizes that this AD imposes certain operational costs on operators, and that operators have an obligation to maintain their airplanes in airworthy condition. However, the FAA does not provide economic mitigation to small or large operators. Under certain circumstances, an airplane manufacturer might provide warranty coverage, but the FAA does not have the authority to require manufacturers to do so. The FAA has not changed the AD in this regard.

Request To Require Reporting

An anonymous commenter requested that the FAA require operators to report anonymized data on all incidents of uncommanded seat movement, repairs performed, and root causes, with public summaries released regularly. The commenter stated that this transparency would build trust and allow independent safety and labor advocates to monitor implementation.

The FAA agrees. The holder of a type certificate, parts manufacturer approval (PMA), or technical standard order (TSO) authorization is required, under 14 CFR 21.3, to report any failure, malfunction, or defect in any product or article manufactured by it that has resulted in occurrences, as provided in § 21.3(c). These reports can be submitted to the service difficulty reporting (SDR) system at sdrs.faa.gov, which is accessible to the public. No change to the AD is necessary in this regard.

Request To Address Safety and Accessibility for Disabled Passengers

An anonymous commenter requested that the FAA revise the proposed AD to require that any new or retrofitted seat meet or exceed the American with Disabilities Act (ADA) accessibility requirements for disabled passengers and crew members.

The FAA acknowledges the commenter's concern. The requirements of this AD address uncommanded movement of the Captain's and First Officer's seats, which could lead to reduced controllability of the airplane. Therefore, this AD does not affect disabled passengers or cabin crewmembers. If a modification to a seat is needed to accommodate a disabled flightcrew member, and the modification affects compliance with this AD, an operator may request approval of an alternative method of compliance (AMOC) under the provisions of paragraph (n) of this AD. The FAA has not revised the AD in this regard.

Request To Address Compliance Time and Workforce Capacity

An anonymous commenter requested the FAA confirm that the proposed compliance time would not result in overburdening maintenance staff, forced overtime, or flight cancellations. The commenter stated that rushed or under-resourced implementation of an AD risks maintenance errors and fatigue.

The FAA acknowledges the commenter's concern. In developing an appropriate compliance time for this AD, the FAA considered the recommendations of the manufacturer, the urgency associated with the subject unsafe condition, the availability of required parts, and the practical aspect of accomplishing the required modification within a period of time that corresponds to the normal scheduled maintenance for most affected operators. In consideration of these items, the FAA has determined that the compliance time required by this AD will ensure an acceptable level of safety. However, under the provisions of paragraph (n) of this AD, the FAA will consider requests for approval of an extension of the compliance time if sufficient data are submitted to substantiate that the new compliance time would provide an acceptable level of safety. The FAA has not changed this AD in this regard.

Request To Include Stakeholder Input

An anonymous commenter requested that the FAA require meaningful input from frontline mechanics, labor unions, flightcrew representatives, and disability rights groups before finalizing compliance plans or altering seat design standards.

The FAA acknowledges the commenter's concern. The FAA provides industry stakeholders the opportunity to participate in the rulemaking process by providing notice in the Federal Register. Before issuing the final rule, the FAA considers all comments received and determines whether air safety requires incorporating any requested changes or adopting the AD as proposed. No change to the AD is necessary in this regard.

Request To Address Environmental Impacts

An anonymous commenter requested that the FAA revise the proposed AD to clarify the environmental impact of seat replacement or repairs, including discarded parts and whether materials are reused or recycled. The commenter asserted that the FAA should prioritize sustainable disposal and recycling practices.

The FAA disagrees with the request. In accordance with 14 CFR 39.5, the FAA issues an AD when an unsafe condition exists on an aircraft, aircraft engine, propellers, or appliances, and the condition is likely to exist or develop in other products of the same type design. Mandating how operators dispose of parts removed from an airplane or their spares inventory does not address the unsafe condition. Further, according to § 39.11, an AD specifies the actions that must be taken to resolve the unsafe condition. Any actions required beyond that may create an unnecessary burden on operators. The FAA has not revised the AD in this regard.

Request To Address Worker Safety

An anonymous commenter requested that the FAA revise the proposed AD to require robust reporting, training, and oversight to protect maintenance workers who inspect and repair the affected seats. The commenter stated seat maintenance can involve awkward and hazardous positions, and the FAA should ensure that airlines are required to provide safe working conditions, ergonomic equipment, and paid time for proper safety procedures.

The FAA disagrees with revising the AD. As stated previously, the FAA issues an AD to require the necessary actions to adequately address an unsafe condition on an affected product. The safety and protection of maintenance workers is outside the scope of this AD. The FAA has not revised the AD in this regard.

Request To Consider Labor Rights

An anonymous commenter asked if the FAA has a plan to monitor and enforce labor standards and fair working conditions in the manufacturing and supply chain for replacement of seat parts. The commenter stated that the proposed AD should not create pressure to outsource work to low-wage and -rights facilities.

The FAA does not plan to monitor or enforce labor standards and working conditions related to the production and supply of replacement seat parts. The enforcement of labor standards and fair working conditions is outside the scope of this AD. As stated previously, the FAA issues an AD to require the necessary actions to adequately address an unsafe condition on an affected product. The FAA has not changed the AD in this regard.

Request To Address Airline Cost Pass-Through

An anonymous commenter asked what measures the FAA will take to prevent airlines from passing on AD compliance costs directly to passengers through fare increases or fees, which disproportionately burden working-class travelers.

The FAA acknowledges the commenter's concern. As stated previously, the FAA issues an AD to require the necessary actions to adequately address an unsafe condition on an affected product. The FAA's authority to regulate air safety does not include prescribing how a private company conducts its business. The FAA has not changed the AD in this regard.

Conclusion

The FAA reviewed the relevant data, considered any comments received, and determined that air safety requires adopting this AD as proposed. Accordingly, the FAA is issuing this AD to address the unsafe condition on these products. Except for the foregoing changes, this AD is adopted as proposed in the NPRM. None of the changes will increase the economic burden on any operator.

Material Incorporated by Reference Under 1 CFR Part 51

The FAA reviewed Boeing Special Attention Service Bulletin 757-25-0308, Revision 2, dated June 12, 2023. This material specifies procedures for repetitive horizontal actuator identifications, repetitive checks of the HMS, a detailed inspection of the HMS, as applicable, and applicable on-condition actions including an overhaul and checks of the HMS, with the option to install a serviceable seat under certain conditions, which terminates the repetitive checks.

The FAA reviewed Boeing Special Attention Service Bulletin 757-25-0309, Revision 2, dated June 12, 2023. This material specifies procedures for a general visual inspection to determine the seat part numbers on the Captain's and First Officer's seats, and, for seats with certain part numbers, a manual override cable adjustment check of the Captain's and First Officer's seats, and applicable on-condition actions including moving the adjustment nut, tightening the lock nut, and readjusting the control lever.

This AD also requires Boeing Special Attention Service Bulletin 757-25-0308, Revision 1, dated June 7, 2018, which the Director of the Federal Register approved for incorporation by reference as of January 31, 2019 (83 FR 66612, December 27, 2018).

This material is reasonably available because the interested parties have access to it through their normal course of business or by the means identified in the ADDRESSES section.

Costs of Compliance

The FAA estimates that this AD affects 484 airplanes of U.S. registry. The FAA estimates the following costs to comply with this AD:

Estimated Costs
Action | Labor cost | Parts cost | Cost per product | Cost on U.S. operators
Identification/check (retained actions from AD 2018-26-03) | Up to 11 work-hours × $85 per hour = $935 per identification/cycle | $4,820 | $5,755 per identification/cycle | $2,785,420 per identification/cycle.
Inspection (retained action from AD 2018-26-03) | Up to 1 work-hour × 85 per hour = 85 | 0 | Up to 85 | 41,140.
Part identification (new action) | 1 work-hour × 85 per hour = 85 | 0 | 85 | 41,140.

Certain configurations of the Captain's and First Officer's seats may require special tooling to test the seats. Special tooling for one set of Captain's and First Officer's seats will cost $30,000, and a certain other set will cost $32,500. If an operator owns both combinations of seats, the special tooling will cost up to $62,500 per operator.

We have received no definitive data that would enable us to provide the remaining cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-26-03, Amendment 39-19533 (83 FR 66612, December 27, 2018); and

b. Adding the following new AD:

2025-20-14 The Boeing Company: Amendment 39-23167; Docket No. FAA-2025-0473; Project Identifier AD-2024-00281-T.

(a) Effective Date

This airworthiness directive (AD) is effective January 2, 2026.

(b) Affected ADs

This AD replaces AD 2018-26-03, Amendment 39-19533 (83 FR 66612, December 27, 2018) (AD 2018-26-03).

(c) Applicability

This AD applies to all The Boeing Company Model 757-200 series airplanes, certificated in any category.

(d) Subject

Air Transport Association (ATA) of America Code 25, Equipment/furnishings.

(e) Unsafe Condition

This AD was prompted by reports of uncommanded movement of the Captain's and First Officer's seats. The FAA is issuing this AD to address uncommanded movement of the Captain's or First Officer's seat, which could lead to reduced controllability of the airplane.

(f) Compliance

Comply with this AD within the compliance times specified, unless already done.

(g) Identification, Checks and Inspection of Horizontal Movement System, and On-Condition Actions

For airplanes identified in Boeing Special Attention Service Bulletin 757-25-0308, Revision 2, dated June 12, 2023: Except as required by paragraphs (i) and (m) of this AD, at the applicable times specified in paragraph 1.E., “Compliance,” of Boeing Special Attention Service Bulletin 757-25-0308, Revision 1, dated June 7, 2018, or Revision 2, dated June 12, 2023, do all applicable actions identified as “RC” (required for compliance) in, and in accordance with, the Accomplishment Instructions of Boeing Special Attention Service Bulletin 757-25-0308, Revision 1, dated June 7, 2018, or Revision 2, dated June 12, 2023. As of the effective date of this AD, only Boeing Special Attention Service Bulletin 757-25-0308, Revision 2, dated June 12, 2023, may be used.

(h) Seat Identification, Cable Adjustment, and On-Condition Actions

For airplanes identified in Boeing Special Attention Service Bulletin 757-25-0309, Revision 2, dated June 12, 2023: Except as specified by paragraphs (i) and (m) of this AD, at the applicable times specified in the “Compliance” paragraph of Boeing Special Attention Service Bulletin 757-25-0309, Revision 2, dated June 12, 2023, do an inspection to determine the part number of the Captain's and First Officer's seats, and all applicable on-condition actions identified in, and in accordance with, the Accomplishment Instructions of Boeing Special Attention Service Bulletin 757-25-0309, Revision 2, dated June 12, 2023. A review of airplane maintenance records is acceptable in lieu of this inspection if the part number and serial number of the Captain's and First Officer's seats can be conclusively determined from that review.

(i) Exceptions to Service Bulletin Specifications for Paragraphs (g) and (h) of This AD

(1) Where the “Compliance” paragraph of Boeing Special Attention Service Bulletin 757-25-0308, Revision 1, dated June 7, 2018, refers to the original issue date of this service bulletin, this AD requires using January 31, 2019 (the effective date of AD 2018-26-03).

(2) Where the “Compliance” paragraph of Boeing Special Attention Service Bulletin 757-25-0308, Revision 2, dated June 12, 2023, refers to the original issue date of this service bulletin, this AD requires using January 31, 2019 (the effective date of AD 2018-26-03).

(3) Where the “Compliance” paragraph of Boeing Special Attention Service Bulletin 757-25-0309, Revision 2, dated June 12, 2023, refers to 72 months after the original issue date of this service bulletin, this AD requires using 36 months after January 31, 2019 (the effective date of AD 2018-26-03).

(4) Where the “Compliance” paragraph of Boeing Special Attention Service Bulletin 757-25-0309, Revision 2, dated June 12, 2023, refers to the Revision 2 date of this service bulletin, this AD requires using the effective date of this AD.

(j) Identification, Checks and Inspection of Horizontal Movement System, and On-Condition Actions for Additional Airplanes

For airplanes other than those identified in Boeing Special Attention Service Bulletin 757-25-0308, Revision 2, dated June 12, 2023: Except as required by paragraphs (l) and (m) of this AD, at the applicable times specified in paragraph 1.E., “Compliance,” of Boeing Special Attention Service Bulletin 757-25-0308, Revision 2, dated June 12, 2023, do all applicable actions identified as “RC” (required for compliance) in, and in accordance with, the Accomplishment Instructions of Boeing Special Attention Service Bulletin 757-25-0308, Revision 2, dated June 12, 2023.

(k) Seat Identification, Cable Adjustment, and On-Condition Actions for Additional Airplanes

For airplanes other than those identified in Boeing Special Attention Service Bulletin 757-25-0309, Revision 2, dated June 12, 2023: Except as specified by paragraphs (l) and (m) of this AD, at the applicable times specified in the “Compliance” paragraph of Boeing Special Attention Service Bulletin 757-25-0309, Revision 2, dated June 12, 2023, do an inspection to determine the part number of the Captain's and First Officer's seats, and all applicable on-condition actions identified in, and in accordance with, the Accomplishment Instructions of Boeing Special Attention Service Bulletin 757-25-0309, Revision 2, dated June 12, 2023. A review of airplane maintenance records is acceptable in lieu of this inspection if the part number and serial number of the Captain's and First Officer's seats can be conclusively determined from that review.

(l) Exceptions to Service Bulletin Specifications for Paragraphs (j) and (k) of This AD

(1) Where the “Compliance” paragraph of Boeing Special Attention Service Bulletin 757-25-0308, Revision 2, dated June 12, 2023, refers to the original issue date of this service bulletin, this AD requires using the effective date of this AD.

(2) Where the “Compliance” paragraph of Boeing Special Attention Service Bulletin 757-25-0309, Revision 2, dated June 12, 2023, refers to 72 months after the original issue date of this service bulletin, this AD requires using 36 months after the effective date of this AD.

(3) Where the “Compliance” paragraph of Boeing Special Attention Service Bulletin 757-25-0309, Revision 2, dated June 12, 2023, refers to the Revision 2 date of this service bulletin, this AD requires using the effective date of this AD.

(m) Acceptable Conditions for Compliance

If the airplane records show that an Ipeco Captain's or First Officer's seat installed on an airplane meets the conditions in any of the three rows for Boeing Special Attention Service Bulletin 757-25-0308 in table 1 to paragraph (m) of this AD, then the actions in paragraphs (g) and (j), as applicable, of this AD are not required for that seat. If the airplane records show that an Ipeco Captain's or First Officer's seat installed on an airplane meets the conditions in any of the three rows for Boeing Special Attention Service Bulletin 757-25-0309 in table 1 to paragraph (m) of this AD, then the actions specified in paragraphs (h) and (k), as applicable, of this AD are not required for that seat.

Table 1 to Paragraph (m)—Alternative Acceptable Seats
Actions done in accordance with Boeing Special Attention Service Bulletin— | Actions done in accordance with Ipeco Service Bulletin— | Having Ipeco part number (P/N) | And additional required conditions—
757-25-0308, Revision 1, dated June 7, 2018, or Revision 2, dated June 12, 2023 | None | 3A258-0007-01-2, 3A258-0007-01-1Z, 3A258-0008-01-2, or 3A258-0008-01-1Z | No additional conditions required.
757-25-0308, Revision 1, dated June 7, 2018, or Revision 2, dated June 12, 2023 | 258-25-15, Issue 4, dated February 16, 2018; Issue 5, dated April 29, 2020; or Issue 6, dated November 1, 2021 | 3A258-0007-01-1 or 3A258-0008-01-1 | Has a horizontal actuator with Artus part number AD8650503 at “Amendment C” or later.
757-25-0308, Revision 1, dated June 7, 2018, or Revision 2, dated June 12, 2023 | 258-25-16, Issue 4, dated September 11, 2017; or Issue 5, dated April 29, 2020 | 3A258-0007-01-1 or 3A258-0008-01-1 | Has a horizontal actuator with Artus part number AD8650503 at “Amendment C” or later.
757-25-0309, Revision 1, dated July 2, 2018, or Revision 2, dated June 12, 2023 | None | 3A258-0007-01-2 or 3A258-0008-01-2 | No additional conditions required.
757-25-0309, Revision 1, dated July 2, 2018, or Revision 2, dated June 12, 2023 | 258-25-08, Issue 4, dated April 25, 2014; Issue 5, dated March 4, 2020; or Issue 6, dated January 28, 2021 | 3A258-0007-01-1, 3A258-0007-01-1Z, 3A258-0008-01-1, or 3A258-0008-01-1Z | The manual override cable maintenance has been completed on the seat in accordance with Ipeco Component Maintenance Manual 25-11-26, Revision 16, dated September 12, 2013, or subsequent revisions up to and including Revision 40, dated December 4, 2023.
757-25-0309, Revision 1, dated July 2, 2018, or Revision 2, dated June 12, 2023 | 210-25-04, Issue 2, dated March 28, 2014; or Issue 3, dated March 3, 2020 | 3A090-0077-01-1 or 3A090-0078-01-1 | The manual override cable maintenance has been completed on the seat in accordance with Ipeco Component Maintenance Manual 25-10-78, Revision 20, dated September 12, 2013, or subsequent revisions up to and including Revision 29, dated October 13, 2023.

(n) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (o) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(3) AMOCs approved for AD 2018-26-03 are approved as AMOCs for the corresponding provisions of this AD.

(4) For material that contains steps that are labeled as Required for Compliance (RC), the provisions of paragraphs (n)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(o) Related Information

For more information about this AD, contact Julie Linn, Aviation Safety Engineer, FAA, 2200 South 216th St., Des Moines, WA 98198; phone: 206-231-3584; email: Julie.Linn@faa.gov.

(p) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on [DATE 35 DAYS AFTER PUBLICATION OF THE FINAL RULE].

(i) Boeing Special Attention Service Bulletin 757-25-0308, Revision 2, dated June 12, 2023.

(ii) Boeing Special Attention Service Bulletin 757-25-0309, Revision 2, dated June 12, 2023.

(4) The following material was approved for IBR on January 31, 2019 (83 FR 66612, December 27, 2018).

(i) Boeing Special Attention Service Bulletin 757-25-0308, Revision 1, dated June 7, 2018.

(ii) [Reserved]

(5) For Boeing material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on September 29, 2025.
Lona C. Saccomando,
Acting Deputy Director, Integrated Certificate Management Division, Aircraft Certification Service.

[FR Doc. 2025-21474 Filed 11-26-25; 8:45 am]

BILLING CODE 4910-13-P